DEPARTMENT OF TRANSPORTATION

Federal Aviation Administration

14 CFR Part 71

[Docket No. FAA-2005-20572; Airspace Docket No. 05-ACE-9]

Establishment of Class E2 Airspace; and Modification of Class E5 Airspace; Valentine, NE

Correction

In rule document 05-9435 beginning on page 24940 in the issue of Thursday, May 12, 2005, make the following correction:

§71.1 [Corrected]

On page 24940, in §71.1, in the third column, under the heading “ACE NE E2 Valentine, NE”, in the second line, “42°51′128″N.,” should read “42°51′28″N.,”.

[FR Doc. C5-9435 Filed 7-1-05; 8:45 am]

BILLING CODE 1505-01-D

DEPARTMENT OF TRANSPORTATION

Federal Aviation Administration

14 CFR Part 71

[Docket No. FAA-2005-20573; Airspace Docket No. 05-ACE-10]

Modification of Class E Airspace; Parsons, KS

Correction

In rule document 05-9434 appearing on page 24939 in the issue of Thursday, May 12, 2005, the docket number is corrected to read as set forth above.

[FR Doc. C5-9434 Filed 7-1-05; 8:45 am]

BILLING CODE 1505-01-D

DEPARTMENT OF TRANSPORTATION

Federal Aviation Administration

14 CFR Part 71

[Docket No. FAA-2005-21337; Airspace Docket No. 05-ACE-16]

Proposed Establishment of Class E2 Airspace; and Modification of Class E5 Airspace; Storm Lake, IA

Correction

In proposed document 05-12378 beginning on page 36085 in the issue of Wednesday, June 22, 2005, make the following corrections:

§71.1 [Corrected]

1. On page 36086, in §71.1, in the third column, the heading “ACE IA 32 Storm Lake, IA” should read “ACE IA E2 Storm Lake, IA”.

2. On the same page, in the same column, under the same heading, in the 12th line, “nothr” should read “north”.

[FR Doc. C5-12378 Filed 7-1-05; 8:45 am]

BILLING CODE 1505-01-D

DEPARTMENT OF TRANSPORTATION

Federal Aviation Administration

14 CFR Part 73

[Docket No. FAA-2005-20616; Airspace Docket No. 05-ANM-04]

RIN 2120-AA66

Amendment to Restricted Area 2211 Blair Lakes; AK

Correction

In rule document 05-11761 appearing on page 34650 in the issue of Wednesday, June 15, 2005, make the following correction:

§73.22 [Corrected]

On page 34650, in §73.22, in the third column, under the heading “ R-2211 Blair Lakes, AK [Amended]”, in the fourth line, “147°32′8″ W.;” should read “147°32′08″ W.;”.

[FR Doc. C5-11761 Filed 7-1-05; 8:45 am]

BILLING CODE 1505-01-D